DEPARTMENT OF TRANSPORTATION

Federal Aviation Administration

38th Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirty-eighth meeting of the RTCA Special Committee 206, Aeronautical Information and Meteorological Data Link Services.

DATES: The meeting will be held September 15-19 2014, 10:00 a.m.—11:30 a.m. (Central Time).

ADDRESSES: The meeting will be held at National Weather Service, 120 David L. Boren Blvd. Norman, OK 73072.

FOR FURTHER INFORMATION CONTACT: The RTCA Secretariat, 1150 18th Street NW., Suite 910, Washington, DC 20036, or by telephone at (202) 330-0652/(202) 833-9339, fax at (202) 833-9434, or Web site at http://www.rtca.org or Sophie Bousquet, sbousquet@rtca.org, 202-330-0663.

SUPPLEMENTARY INFORMATION: Pursuant to section 10(a) (2) of the Federal Advisory Committee Act (Pub. L. 92-463, 5 U.S.C., App.), notice is hereby given for a meeting of Special Committee 206. The agenda will include the following:

September 15, 10:00 a.m.

Opening Plenary

• Opening remarks: DFO, Chairman, and Host

• Attendees' introductions

• Review and approval of meeting agenda, Action item review

• Approval of previous (DC) meeting minutes

• Industry Presentations

September 16, 8:30 a.m.

• Sub-Groups meetings

10:00 a.m.

• SG6: SE2020 Eddy Dissipation Rate (EDR) Turbulence Project

September 17, 8:30 a.m.

• Sub-Groups meetings

September 18, 8:30 a.m.

• Plenary: AC 00-45 Update

9:00 a.m.

• Plenary: SG-5 FIS-B MOPS Review

(Sub-Group meetings will occur if review ends early)

1:00 p.m.

• Sub-Group Meetings (Plenary: SG-5 FIS-B MOPS Review, if needed

September 19, 8:30 a.m.

Closing Plenary

• Sub-Groups' Reports

○ Decision to Approve FIS-B MOPS for FRAC Release

• TOR Changes

• Action item review

• Future meeting plans and dates

• Industry Coordination & Presentations

• Other business

11:30 a.m.

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 22 2014.
Mohannad Dawoud,
Management Analyst, NextGen, Business Operations Group, Federal Aviation Administration.

[FR Doc. 2014-17817 Filed 7-28-14; 8:45 am]

BILLING CODE 4910-13-P